DEPARTMENT OF STATE

22 CFR Part 181

[Public Notice 8921]

RIN 1400-AD53

Publication, Coordination, and Reporting of International Agreements

ACTION: Final rule.

SUMMARY: The Department of State (“Department”) finalizes a proposed rule to add additional categories of international agreements to be exempted from the requirement to publish in the Treaties and Other International Acts Series (TIAS). The TIAS is the official treaty series of the United States and serves as evidence of the treaties, and international agreements other than treaties, in all courts of law and equity and of maritime jurisdiction, and in all the tribunals and public offices of the United States and of the several States, without any need of further proof or authentication. Certain international agreements may be exempted from publication in TIAS if the Department of State provides notice in its regulations. This rule adds three categories of international agreements that are not required to be published in TIAS.

DATES: This rule is effective on November 14, 2014.

FOR FURTHER INFORMATION CONTACT: Michael Mattler, Treaty Affairs, Office of the Legal Adviser, Department of State, Washington, DC 20520, (202) 647-1345, or at treatyoffice@state.gov.

SUPPLEMENTARY INFORMATION: Pursuant to 1 U.S.C. 112a, the Secretary of State is required to cause to be published annually a compilation of all treaties and international agreements to which the United States is a party that were signed, proclaimed, or “with reference to which any other final formality ha[d] been executed” during the calendar year.

The Secretary of State, however, may determine that publication of particular categories of agreements is not required if certain criteria are met, which are listed in 1 U.S.C. 112a(b). The three categories of international agreements that are exempted by this rule (and which are now included in 22 CFR 181.8) are:

(1) Bilateral acquisition and cross servicing agreements and logistics support agreements governing the mutual exchange of logistics support, supplies and services with the military of certain countries or international organizations.

(2) Bilateral agreements relating to the provision of health care to military personnel on a reciprocal basis.

(3) Bilateral agreements for the reduction of intergovernmental debts.

Further description of these types of international agreements is included in the notice of proposed rulemaking. In addition to these changes, the Department amends 22 CFR 181.8(a)(9) to refer to the newer Executive Order dealing with classified information.

The Department of State received no comments on the proposed rule.

Regulatory Analysis

For the complete regulatory analysis regarding this rulemaking, please refer to the analysis included in the notice of proposed rulemaking, which is adopted herein.

List of Subjects in 22 CFR Part 181

Treaties.

For the reasons set forth above, 22 CFR part 181 is amended as follows:

PART 181—[AMENDED]

1. The authority citation for part 181 continues to read as follows:

Authority: 1 U.S.C. 112a, 112b; and 22 U.S.C. 2651a.

2. Amend § 181.8 by:

a. Revising paragraphs (a)(9), (12), and (13) and adding paragraphs (a)(14), (15), and (16); and

b. Revising paragraph (b).

The revisions and additions read as follows:

§ 181.8 Publication.

(a) * * *

(9) Agreements that have been given a national security classification pursuant to Executive Order No. 13526, its predecessors, or its successors;

* * * * *

(12) Bilateral agreements that apply to specified education and leadership development programs designed to acquaint U.S. and foreign armed forces, law enforcement, homeland security, or related personnel with limited, specialized aspects of each other's practices or operations;

(13) Bilateral agreements between aviation agencies governing specified aviation technical assistance projects for the provision of managerial, operational, and technical assistance in developing and modernizing the civil aviation infrastructure;

(14) Bilateral acquisition and cross servicing agreements and logistics support agreements;

(15) Bilateral agreements relating to the provision of health care to military personnel on a reciprocal basis; and

(16) Bilateral agreements for the reduction of intergovernmental debts.

(b) In addition to those listed in paragraph (a) of this section, the following categories of agreements will not be published in United States Treaties and Other International Agreements:

(1) Agreements on the subjects listed in paragraphs (a)(1) through (9) of this section that had not been published as of February 26, 1996;

(2) Agreements on the subjects listed in paragraphs (a)(10) through (13) of this section that had not been published as of September 8, 2006; and

(3) Agreements on the subjects listed in paragraphs (a)(14) through (16) of this section that had not been published as of November 14, 2014.

* * * * *

Dated: November 5, 2014.
Michael J. Mattler,
Assistant Legal Adviser for Treaty Affairs, Department of State.

[FR Doc. 2014-27006 Filed 11-13-14; 8:45 am]

BILLING CODE 4710-08-P